DEPARTMENT OF ENERGY

Federal Energy Regulatory Commission

Combined Notice of Filings

Take notice that the Commission has received the following Natural Gas Pipeline Rate and Refund Report filings:

Filing Instituting Proceedings

Docket Numbers: RP15-1257-000.

Applicants: ANR Pipeline Company.

Description: Informational Filing, submitted out of time, in compliance with October 22, 2015 Letter Order of ANR Pipeline Company under RP15-1257.

Filed Date: 12/9/15.

Accession Number: 20151209-5021.

Comments Due: 5 p.m. ET 12/21/15.

Docket Numbers: RP16-291-000.

Applicants: Alliance Pipeline L.P.

Description: § 4(d) rate filing per 154.204: J. Aron Contract Amendment to be effective 12/1/2015.

Filed Date: 12/9/15.

Accession Number: 20151209-5004.

Comments Due: 5 p.m. ET 12/21/15.

Docket Numbers: RP16-291-000.

Applicants: Alliance Pipeline L.P.

Description: § 4(d) rate filing per 154.204: J. Aron Contract Amendment to be effective 12/1/2015.

Filed Date: 12/9/15.

Accession Number: 20151209-5004.

Comments Due: 5 p.m. ET 12/21/15.

Docket Numbers: RP16-292-000.

Applicants: Alliance Pipeline L.P.

Description: Compliance filing per 154.203: Reinstate AOS to be effective 12/1/2015.

Filed Date: 12/9/15.

Accession Number: 20151209-5071.

Comments Due: 5 p.m. ET 12/21/15.

Docket Numbers: RP16-293-000.

Applicants: Equitrans, L.P.

Description: § 4(d) rate filing per 154.204: Update LPS and FLPS Form of Service Agreements to be effective 1/9/2016.

Filed Date: 12/9/15.

Accession Number: 20151209-5077.

Comments Due: 5 p.m. ET 12/21/15.

Docket Numbers: RP16-294-000.

Applicants: Southern Star Central Gas Pipeline, Inc.

Description: Compliance filing per 154.203: Capacity Release Waiver Filing to be effective N/A.

Filed Date: 12/9/15.

Accession Number: 20151209-5120.

Comments Due: 5 p.m. ET 12/21/15.

Docket Numbers: RP16-295-000.

Applicants: Eastern Shore Natural Gas Company.

Description: § 4(d) rate filing per 154.204: Filing of Negotiated Rate Agreement to be effective 11/1/2015.

Filed Date: 12/9/15.

Accession Number: 20151209-5121.

Comments Due: 5 p.m. ET 12/21/15.

Docket Numbers: CP16-26-000.

Applicants: MoGas Pipeline LLC.

Description: Abandonment Authority and for a Certificate of Public Convenience.

Filed Date: 11/30/2015.

Accession Number: 20151130-5452.

Comments Due: 5 p.m. ET 12/28/2015.

Docket Numbers: PR16-8-000.

Applicants: Washington 10 Storage Corporation.

Description: Tariff filing per 284.123(e)/.224: Update of Statement of Operating Conditions to be effective 12/8/2015.

Filed Date: 12/7/15.

Accession Number: 201512075094.

Comments/Protests Due: 5 p.m. ET 12/28/15.

Docket Numbers: PR16-5-000.

Applicants: Southern California Gas Company.

Description: Tariff filing per 284.123(b)(1)/.: New Rate Filing to be effective 12/1/2015.

Filed Date: 12/2/15.

Accession Number: 201512025225.

Comments/Protests Due: 5 p.m. ET 12/23/15.

Docket Numbers: PR16-6-000.

Applicants: Southern California Gas Company.

Description: Tariff filing per 284.123(g)/.224: Cancellation of FERC Section 284.224 Service Tariff—Clone—Clone to be effective 12/3/2015.

Filed Date: 12/3/2015.

Accession Number: 201512035003.

Comments Due: 5 p.m. ET 12/24/15.

284.123(g) Protests Due: 5 p.m. ET 2/1/16.

Docket Numbers: PR16-7-000.

Applicants: Columbia Gas of Maryland, Inc.

Description: Tariff filing per 284.123(b)(1)/.: Revised SOC to be effective 12/4/2015.

Filed Date: 12/4/15.

Accession Number: 201512045120.

Comments/Protests Due: 5 p.m. ET 12/28/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-1278-001.

Applicants: Maritimes & Northeast Pipeline, L.L.C.

Description: Report Filing: MNUS December 10, 2015, Errata Filing to be effective N/A.

Filed Date: 12/10/15.

Accession Number: 20151210-5069.

Comments Due: 5 p.m. ET 12/22/15.

Docket Numbers: RP15-1279-001.

Applicants: Texas Eastern Transmission, LP.

Description: Report Filing: TETLP December 10, 2015, Errata Filing to be effective N/A.

Filed Date: 12/10/15.

Accession Number: 20151210-5073.

Comments Due: 5 p.m. ET 12/22/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

December 10, 2015.
Nathaniel J. Davis, Sr.,
Deputy Secretary.

[FR Doc. 2015-31617 Filed 12-15-15; 8:45 am]

BILLING CODE 6717-01-P